MORRIS K. UDALL SCHOLARSHIP AND EXCELLENCE IN NATIONAL ENVIRONMENTAL POLICY FOUNDATION, THE UNITED STATES INSTITUTE FOR ENVIRONMENTAL CONFLICT RESOLUTION

Agency Information Collection Activities; Extension of Currently Approved Information Collection; Comment Request; U.S. Institute for Environmental Conflict Resolution Application for the National Roster of Environmental Dispute Resolution and Consensus Building Professionals

AGENCY: Morris K. Udall Scholarship and Excellence in National Environmental Policy Foundation, U.S. Institute for Environmental Conflict Resolution.

ACTION: Notice.

SUMMARY: In compliance with the Paperwork Reduction Act and supporting regulations, this document announces that the U.S. Institute for Environmental Conflict Resolution (the Institute), part of the Morris K. Udall Foundation, is submitting to the Office of Management and Budget (OMB) a request for an extension for the currently approved information collection (ICR), OMB control Number 3320-0008: Application for the National Roster of Environmental Dispute Resolution and Consensus Building, currently operating pursuant to OMB clearance issued October 25, 2005 and which expires January 31, 2009 (OMB granted extension from previous expiration date of October 31, 2008). The U.S. Institute published a Federal Register Notice on July 30, 2008 (73 FR 44289-44290), to solicit public comments for a 60-day period. The U.S. Institute received no comments. Thus, no changes were made to the application. The purpose of this notice is to allow an additional 30 days for public comments regarding this information collection. Comments are invited on: (1) Whether the proposed collection of information is necessary for the proper performance of the functions of the agency, including whether the information has practical utility; (2) the accuracy of the agency's estimate of the time spent completing the application (burden of the proposed collection of information), including the validity of the methodology and assumptions used; (3) ways to enhance the quality, utility, and clarity of the information collected; (4) ways to minimize the burden of the collection of information on those who are to respond, including through the use of appropriate automated electronic, mechanical, or other technological collection techniques or other forms of information technology.

DATES: Comments must be submitted on or before November 19, 2008.

ADDRESSES: Direct comments to: Office of Information and Regulatory Affairs, Office of Management and Budget (OMB), Attention: Heidi King, 725 17th Street, NW., Washington, DC 20503, Desk Officer for The Morris K. Udall Scholarship and Excellence in National Environmental Policy Foundation, U.S. Institute for Environmental Conflict Resolution, Heidi_R._King@omb.eop.gov.

FOR FURTHER INFORMATION CONTACT: Kathleen Docherty, Roster Manager, U.S. Institute for Environmental Conflict Resolution, 130 South Scott Ave., Tucson, Arizona 85701. Fax: 520-670-5530. Phone: 520-901-8501. E-mail: docherty@ecr.gov.

SUPPLEMENTARY INFORMATION: Abstract: The U.S. Institute is a federal program established by Congress to assist parties in resolving environmental, natural resource, and public lands conflicts. The U.S. Institute serves as an impartial, non-partisan institution, and accomplishes much of its work by partnering, contracting with, or referral to, experienced practitioners. In addition, the U.S. Institute maintains the National Roster of Environmental Dispute Resolution and Consensus Building Professionals (National ECR Roster or roster). The Application for the National Roster of Environmental Dispute Resolution and Consensus Building Professionals (application) compiles data available from the resumes of environmental neutrals (mediators, facilitators, etc.) into a format that is standardized for efficient and fair eligibility review, database searches, and retrievals. The roster, the application and the related entry criteria, were developed collaboratively and with the support of the Environmental Protection Agency. A professional needs complete the application form one time. Once an application is approved, the roster member has access to update information online. The proposed collection is necessary to support ongoing maintenance of the roster and a continuous, open application process. The application and supplementary information are available from the U.S. Institute's Web site. From http://www.ecr.gov/Resources/Roster/Roster.aspx, choose the right-hand navigation bar link to “Roster Application: Info and Log In”.

Burden Statement: Burden for potentially affected public: environmental dispute resolution and consensus building professionals (new respondents); existing roster members (for updating).

Proposed Frequency of Response: One initial, with voluntary updates approximately once per year.

Annual Number of Respondents: 30 (new response); 125 (update).

Time per Respondent: 2.5 hours (new response); 15 minutes (update).

Total Annual Hours Burden: 106 (new response and update combined).

Annual Cost Burden: $3,359 (new response); $1,399 (update).

Total Annual Cost Burden: $4,758 (new response and update combined); labor costs exclusively; no capital or start-up costs.

Changes in the Estimates: There are no changes in the labor hours in this ICR compared to the previous ICR. The reduction in cost figures from the previous ICR are due to use of current Bureau of Labor Statistics reports for valuing time (civilian workers category of “professionals and related occupations”: $44.78 per hour) rather than estimated contractor rates.

(Authority: 20 U.S.C. 5601-5609)

Dated the 9th day of October 2008.
Ellen Wheeler,
Executive Director, Morris K. Udall Scholarship and Excellence in National Environmental Policy Foundation, and Federal Register Liaison Officer.

[FR Doc. E8-24835 Filed 10-17-08; 8:45 am]

BILLING CODE 6820-FN-P